DEPARTMENT OF HOMELAND SECURITY

Transportation Security Administration

[Docket No. TSA-2007-28572]

Intent To Request Revision From the Office of Management and Budget of One Current Public Collection of Information: Secure Flight Program

AGENCY: Transportation Security Administration, DHS.

ACTION: 60-Day notice.

SUMMARY: The Transportation Security Administration (TSA) invites public comment on one currently approved Information Collection Request (ICR), Office of Management and Budget (OMB) control number 1652-0046, abstracted below, that we will submit to OMB for a revision in compliance with the Paperwork Reduction Act (PRA). The ICR describes the nature of the information collection and its expected burden. The information collection involves passenger information that certain U.S. aircraft operators and foreign air carriers (collectively referred to in this document as “covered aircraft operators”) submit to Secure Flight for the purposes of identifying and protecting against potential threats to transportation and national security. The information collection also involves lists used by TSA to determine the prescreening status of individuals. TSA is revising the collection to reduce the number of non-governmental entities with access to the federal watch lists.

DATES: Send your comments by December 20, 2022.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to:

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including the use of appropriate automated, electronic, mechanical, or other technological collection techniques or other forms of information technology.

Information Collection Requirement

OMB Control Number 1652-0046; Secure Flight Program, 49 CFR part 1560. Under the Secure Flight Program, the TSA collects information from covered aircraft operators, which includes U.S. aircraft operators, foreign air carriers and U.S. airports in order to prescreen passengers and individuals seeking access to the sterile area of the airport. Specifically, the information collected is used to facilitate the process for assessing passengers' risk by matching against lists of persons who pose or are suspected of posing an elevated risk to transportation or national security, for matching against lists of Known Travelers to identify passengers who may be eligible for expedited screening, and to disambiguate individuals with identifying information similar to those on high- and low-risk lists to ensure that each passenger receives the appropriate screening and protect against misidentification. The collection covers the following:

(1) Secure Flight Passenger Data (SFPD) for passengers of covered flights within, to, from, or over the continental U.S., as well as flights between two foreign locations when operated by a covered U.S. aircraft operator.

(2) SFPD for passengers of charter operators and lessors of aircraft with a maximum takeoff weight of over 12,500 pounds.

(3) Certain identifying information for non-traveling individuals that airport operators or airport operator points of contact seek to authorize to enter a sterile area at a U.S. airport (e.g., to patronize a restaurant, to escort a minor or a passenger with disabilities, or for another approved purpose).

(4) Registration information critical to deployment of Secure Flight, such as contact information, data format, or the mechanism the covered aircraft operators use to transmit SFPD and other data.

(5) Lists of low-risk individuals who are eligible for expedited screening provided by Federal and non-federal entities. In support of TSA Pre✓®, TSA implemented expedited screening of known or low-risk travelers. Federal and non-federal entities may maintain lists of eligible individuals pursuant to agreements with DHS and TSA, and provide TSA with those lists of eligible low-risk individuals to be used as part of Secure Flight processes. Secure Flight identifies individuals who should receive expedited screening and transmits the appropriate boarding pass printing result to the aircraft operators.

The collection is being revised due to a change in the population burden. Specifically, TSA has begun an initiative to decrease the number of non-governmental entities with access to the federal watch lists. Pursuant to previous and current TSA regulatory requirements, these entities have used the lists to support prescreening of aviation passengers and non-traveling individuals seeking access to the sterile area of an airport, and to vet certain employees. As a result of the initiative, the respondent populations of Twelve-Five and Private Charter operators authorized to participate in the Secure Flight program will be increased. TSA Secure Flight is working with this population to help them identify the best method for sending data to Secure Flight. Those methods include electronic Secure Flight and use of the DHS router. TSA Secure Flight expects the vast majority of this population to use electronic Secure Flight or the DHS Router.

TSA estimates an average of 901 respondents (262 current and new covered aircraft operators + 554 Twelve-five and Private Charter aircraft operators + 75 airports + 10 non-federal entities) per year with an estimated average annual reporting burden of 44,840 hours.

Dated: October 18, 2022.
Christina A. Walsh,
TSA Paperwork Reduction Act Officer, Information Technology.

[FR Doc. 2022-22924 Filed 10-20-22; 8:45 am]

BILLING CODE 9110-05-P